FEDERAL RESERVE SYSTEM

Public Meeting: Notification by Capital One Financial Corporation, McLean, VA, To Acquire ING Bank, FSB, Wilmington, DE, and Indirectly To Acquire Shares of Sharebuilder Advisors, LLC and ING Direct Investing, Inc., Both of Seattle, WA

AGENCY: Board of Governors of the Federal Reserve System.

ACTION: Notice of public meeting.

SUMMARY: Three public meetings will be held regarding the notice submitted by Capital One Financial Corporation, McLean, Virginia, to acquire ING Bank, FSB, Wilmington, Delaware, and indirectly to acquire shares of Sharebuilder Advisors, LLC, and ING Direct Investing, Inc., both of Seattle, Washington, pursuant to the Bank Holding Company Act (“BHC Act”) and related statutes. The purpose of the public meetings is to collect information relating to factors the Board is required to consider under the BHC Act.

DATES: The meeting dates are:

(1) Tuesday, September 20, 2011, 8:30 a.m. EDT, Washington, DC.

(2) Tuesday, September 27, 2011, 8:30 a.m. CDT, Chicago, IL.

(3) Wednesday, October 5, 2011, 8:30 a.m. PDT, San Francisco, CA.

ADDRESSES: The public meeting locations are:

(1) Washington, DC—Renaissance Washington DC Downtown Hotel, 999 Ninth Street, NW. Washington DC 20001.

(2) Chicago—Federal Reserve Bank of Chicago, 230 South LaSalle Street, Chicago, IL 60604.

(3) San Francisco—Federal Reserve Bank of San Francisco, 101 Market Street, San Francisco, CA 94105.

FOR FURTHER INFORMATION CONTACT: For the Washington meeting: Kimberly Zeuli, Vice President and Community Affairs Officer, Federal Reserve Bank of Richmond, 701 East Byrd Street, Richmond, VA 23261. E-mail: caorichmondfed@rich.frb.org; facsimile: 804/697-5460.

For the Chicago meeting: Alicia Williams, Vice President, Federal Reserve Bank of Chicago, 230 South LaSalle Street, Chicago, IL 60604. E-mail: ccaevents@chi.frb.org; facsimile: 312/913-2626.

For the San Francisco meeting: Scott Turner, Vice President and Community Affairs Officer, Federal Reserve Bank of San Francisco, 101 Market Street, Mail Stop 215, San Francisco, CA 94105. E-mail: scott.turner@sf.frb.org; facsimile: 415/393-1920.

SUPPLEMENTARY INFORMATION: On July 15, 2011, Capital One Financial Corporation, McLean, Virginia (“Capital One”), requested the Board's approval under the Bank Holding Company Act (12 U.S.C. 1841 et seq.) (“BHC Act”) and related statutes to acquire ING Bank, FSB, Wilmington, Delaware, and to indirectly acquire shares of Sharebuilder Advisors, LLC and ING Direct Investing, Inc., both of Seattle, Washington (collectively, “ING”). The General Counsel, acting under authority delegated by the Board, hereby orders that public meetings on the Capital One/ING proposal be held in Washington, DC; Chicago, Illinois; and San Francisco, California.

Purpose and Procedures

The purpose of the public meetings is to collect information relating to the factors the Board is required to consider under the BHC Act. The Board is required to consider whether the notificant's performance of the activities can reasonably be expected to produce benefits to the public (such as greater convenience, increased competition, and gains in efficiency) that outweigh possible adverse effects (such as undue concentration of resources, decreased or unfair competition, conflicts of interests, unsound banking practices, and risk to the stability of the United States banking or financial system). Consideration of the above factors includes an evaluation of the financial and managerial resources of the notificant, including its subsidiaries, and any company to be acquired; the effect of the proposed transaction on those resources; and the management expertise, internal control and risk-management systems, and capital of the entity conducting the activity. In acting on a notice to acquire a savings association, the Board also reviews the records of performance of the insured depository institutions involved in the proposal under the Community Reinvestment Act, which requires the Board to take into account a relevant institution's record of meeting the credit needs of its entire community, including low- and moderate-income neighborhoods, consistent with the safe and sound operation of the institution, in evaluating such an acquisition proposal. 12 U.S.C. 2903.

Procedures for Meeting

Testimony at the public meetings will be presented to a panel consisting of a Presiding Officer and other panel members appointed by the Presiding Officer. The Presiding Officer will have the authority and discretion to ensure that the meetings proceed in a fair and orderly manner. In contrast to a formal administrative hearing, the rules for taking evidence in an administrative proceeding will not apply to the public meetings. Panel members may question witnesses, but no cross-examination of witnesses will be permitted. The public meetings will be transcribed, and the transcripts will be posted on the Board's public Web site within several days after each meeting. Information regarding the procedures for obtaining a copy of the transcripts will be announced at the public meetings.

The Presiding Officer will prepare a schedule for persons wishing to testify from the requests received for each meeting and establish the order of presentation. To ensure an opportunity for all interested commenters to present their views, the Presiding Officer may limit the amount of time allotted to each presentation. Persons not listed on the schedule may be permitted to speak at the public meeting, if time permits, at the conclusion of the schedule of witnesses in the discretion of the Presiding Officer. Copies of testimony may, but need not, be filed with the Presiding Officer before a person's presentation.

Request To Testify

Washington, DC: All persons wishing to testify at the public meeting in Washington must submit a written request to Kimberly Zeuli, Vice President and Community Affairs Officer, Federal Reserve Bank of Richmond, 701 East Byrd Street, Richmond, Virginia 23261 (e-mail: caorichmondfed@rich.frb.org; facsimile: 804/697-5460) no later than 5 p.m. EDT, September 9, 2011.

Chicago, IL: All persons wishing to testify at the public meeting in Chicago must submit a written request to Alicia Williams, Vice President, Federal Reserve Bank of Chicago, 230 South LaSalle Street, Chicago, Illinois 60604 (e-mail: ccaevents@chi.frb.gov; facsimile: 312/913-2626) no later than 5 p.m. CDT, September 15, 2011.

San Francisco, CA: All persons wishing to testify at the public meeting in San Francisco must submit a written request to Scott Turner, Vice President and Community Affairs Officer, Federal Reserve Bank of San Francisco, 101 Market Street, Mail Stop 215, San Francisco, California 94105 (e-mail: scott.turner@sf.frb.org; facsimile: 415/393-1920) no later than 5 p.m. PDT, September 23, 2011.

The request to testify must include the following information: (i) The location of the meeting the participant wishes to attend; (ii) a brief statement of the nature of the expected testimony (including whether the testimony will support or oppose the proposed transaction or provide other comment on the proposal) and the estimated time required for the presentation; (iii) the address and telephone number (e-mail address and facsimile number, if available) of the person testifying; and (iv) the identification of any special needs, such translation services, physical disabilities requiring assistance, or presentations requiring visual aids. Translators will be provided to the extent available if noted in the request to testify. Persons interested only in attending a meeting, but not testifying, need not submit a written request to attend.

Board of Governors of the Federal Reserve System, August 29, 2011.
Robert deV. Frierson,
Deputy Secretary of the Board.

[FR Doc. 2011-22483 Filed 9-1-11; 8:45 am]

BILLING CODE 6210-01-P